DEPARTMENT OF AGRICULTURE

Agricultural Marketing Service

[Docket No. AMS-FV-0109; FV07-900-1NC]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension for an revision to a currently approved information collection enabling certified organic handlers exemption from paying market promotion assessments under 26 Federal marketing order programs.

DATES: Comments on this notice must be received by October 29, 2007.

ADDRESSES: Interested persons are invited to submit written comments concerning this notice. Comments must be sent to the Docket Clerk, Marketing Order Administration Branch, Fruit and Vegetable Programs, AMS, USDA, 1400 Independence Avenue, SW., STOP 0237, Washington, DC 20250-0237; Fax: (202) 720-8938; or Internet: http://www.regulations.gov. Comments should reference the docket number and the date and page number of this issue of the Federal Register and will be available for public inspection in the Office of the Docket Clerk during regular business hours, or can be viewed at: http://www.regulations.gov.

FOR FURTHER INFORMATION CONTACT: Sue Challis, Supervisory Marketing Specialist, Marketing Order Administration Branch, Fruit and Vegetable Programs, AMS, USDA; Telephone: (202) 720-2491, Fax: (202) 720-8938, or E-mail: Sue.Challis@usda.gov.

Small businesses may request information on this notice by contacting Jay Guerber, Marketing Order Administration Branch, Fruit and Vegetable Programs, AMS, USDA, 1400 Independence Avenue, SW., STOP 0237, room 1406-S, Washington, DC 20250-0237; telephone (202) 720-2491, Fax: (202) 720-8938, or E-mail: Jay.Guerber@usda.gov.

SUPPLEMENTARY INFORMATION: Title: Certified Organic Handler Market Promotion Assessment Exemption under 26 Federal Marketing Orders.

OMB Number: 0581-0216.

Expiration Date of Approval: January 31, 2008.

Type of Request: Extension and revision of a currently approved information collection.

Abstract: Marketing order programs provide and opportunity for producers of fresh fruit, vegetables, and specialty crops, in specified production areas, to work together to solve marketing problems that cannot be solved individually. This notice covers the following marketing order program citations under 7 CFR: Part 906, Texas citrus; part 915, Florida avocados; part 916, California nectarines; part 917, California peaches and pears; part 922, Washington apricots; part 923, Washington sweet cherries; part 924, Washington/Oregon fresh prunes; part 925, California grapes; part 927, Pears Grown in Oregon and Washington; part 929, Cranberries Grown in States of Massachusetts, et al.; part 930, Tart Cherries Grown in the States of Michigan, et al.; part 932, California olives; part 947, Oregon/California potatoes; Part 948, Colorado potatoes; part 955, Vidalia Onions, part 956, Washington/Oregon Walla Walla onions, part 958, Idaho-Eastern Oregon onions; part 959, Texas onions; part 966, Florida tomatoes; part 981, California almonds; part 982, Oregon-Washington hazelnuts; part 984, California walnuts; part 985, Far West spearmint oil, part 987, California dates; part 989, California raisins; and part 993, California dried prunes. Marketing orders 931 and 979 were previously included, however, these programs have since terminated. Order regulations help ensure adequate supplies of high quality products for consumers and adequate returns to producers. Under the Agricultural Marketing Agreement Act of 1937 (Act), as amended (7 U.S.C. 601-674), orders may authorize production and marketing research, including paid advertising. Production and marketing research and development, including paid advertising activities to promote the various commodities, are paid for with assessments levied on handlers regulated under the 26 Federal marketing orders.

On May 13, 2002, section 501 of the FAIR Act was amended (7 U.S.C. 7401) to exempt any person that produces and markets solely 100 percent organic products, and that does not produce any conventional or non-organic products, from paying assessments under a commodity promotion law with respect to any agricultural commodity that is produced on a certified organic farm as defined in Section 2103 of the Organic Foods Production Act of 1990 (7 U.S.C. 6502).

To be exempt from paying assessments for marketing promotion, including paid advertising expenses, under the specified marketing orders, the certified organic handler must submit an application, “Certified Organic Handler Application for Exemption from Market Promotion Assessments Paid Under Federal Marketing Orders” to the marketing order committee or board. The information request includes the following: Handler's name (applicant); telephone and fax numbers, and an optional e-mail address; name and address of the company; certification that the applicant operates under an approved organic process system plan authorized by the National Organic Program (NOP) and handles products that are eligible to be labeled as 100 percent organic, that the applicant is not a split operation as defined by the Organic Food Production Act of 1990 (OFPA) and the NOP, and that the applicant is subject to assessments under the Federal marketing order program for which this exemption is requested.

A table has been added to the application for the applicant to list all commodities handled and to indicate whether each commodity handled is eligible to be labeled as 100 percent organic. The application requires the applicant to list the number of producers for whom the applicant handles or markets products. The applicant also is required to attach a copy of the organic handling operation certificate provided by a USDA-accredited certifying agent under the OFPA and the NOP, and a copy of the applicant's NOP producer certificate, if applicable. An NOP certificate for each producer for whom the applicant handles also must be attached.

When the requirements for exemption no longer apply to a handler, the handler shall inform the committee or board within 30 days and pay the full assessment on all remaining assessable product for all committee or board assessments from the date the handler no longer is eligible to the end of the assessment period. The notification by the handler can be made in any manner the handler desires (telephone, fax, e-mail, etc.).

This information is necessary to help the committees or boards to determine an applicant's eligibility and to verify compliance. Inclusion of this information on the form assists the applicants in making their certifications and the committee or boards in properly administering the assessment exemption.

The respective marketing orders (e.g. 7 CFR 932.61 and 7 CFR 981.70) also provide that handlers maintain, and make available, all records necessary to demonstrate compliance with order requirements for two years. The burdens on handlers for such recordkeeping requirements are included in the information collection requests previously approved by OMB for the respective marketing orders under the following OMB Control Numbers: OMB No. 0581-0178 for marketing order Nos. 932, 947, 948, 955, 956, 958, 959, 966, 981, 982, 984, 985, 987, 989, and 993; OMB No. 0581-0189 for marketing order Nos. 906, 915, 916, 917, 922, 923, 924, 925, 927, 929, and 930.

The information collected is used only by authorized representatives of the USDA, including AMS, Fruit and Vegetable Programs’ regional and headquarters’ staff and authorized committee/board employees. Authorized committee/board employees are the primary users of the information and AMS is the secondary user.

AMS is committed to complying with the E-Government ACT, to promote the use of the Internet and other information technologies to provide increased opportunities for citizen access to Government information and services, and for other purposes.

Estimate of Burden: Public reporting burden for this collection of information is estimated to average 30 minutes per response.

Respondents: Eligible Certified Organic Handlers.

Estimated Number of Respondents: 103.

Estimated Number of Total Annual Responses: 103.

Estimated Number of Responses per Respondent: 1.

Estimated total Annual Burden on Respondents: 52 hours.

Comments are invited on: (1) Whether the proposed collection of information is necessary for the proper performance of the functions of the agency, including whether the information will have practical utility; (2) the accuracy of the agency's estimate of the burden of the proposed collection of information including the validity of the methodology and assumptions used; (3) ways to enhance the quality, utility and clarity of the information to be collected; and (4) ways to minimize the burden of the collection of information on those who are to respond, including through the use of appropriate automated, electronic, mechanical, or other technological collection techniques or other forms of information technology.

Comments should reference this docket number and the appropriate marketing order and be sent to the USDA in care of the Docket Clerk at the address above. All comments received will be available for public inspection during regular business hours at the same address.

All responses to this notice will be summarized and included in the request for OMB approval. All comments will become a matter of public record.

Dated: August 23, 2007.
Lloyd C. Day,
Administrator, Agricultural Marketing Service.

[FR Doc. 07-4241 Filed 8-28-07; 8:45 am]

BILLING CODE 3410-02-M